DEPARTMENT OF VETERANS AFFAIRS

[Docket No. VA-2025-VACO-0002]

Response to Comments for the Department of Veterans Affairs to Assess the Current Scientific Literature and Historical Detailed Claims Data Regarding Exposure to Per- and Polyfluoroalkyl Substances (PFAS) and Kidney Cancer

AGENCY: Department of Veterans Affairs.

ACTION: Notice.

SUMMARY: On September 26, 2024, the Department of Veterans Affairs (VA) solicited public comments on VA's plan to assess the current scientific literature and historical claims data regarding exposure to Per- and polyfluoroalkyl substances (PFAS) and kidney cancer. The notice provided an opportunity for veterans, caregivers, survivors, and the public to share relevant information with VA to inform decisions regarding presumptive benefits that could impact veterans who may have experienced environmental and/or occupational exposures to PFAS during military service. Additionally, VA held a virtual public listening session on November 19, 2024, for the public to provide feedback on the planned assessment. This notice provides VA's responses to comments received from the public.

FOR FURTHER INFORMATION CONTACT: Erin Dursa, Ph.D., MPH, Director of Surveillance Military Environmental Exposures, Health Outcomes Military Exposures, Veterans Health Administration, (202) 461-7297.

SUPPLEMENTARY INFORMATION: On September 26, 2024, VA published a notice in the Federal Register to inform the public that it had plans to assess the relationship between exposure to PFAS and kidney cancer. 89 FR 78986. VA received 42 comments from veterans, family members, Veterans Service Organizations (VSOs), and other members of the public in response to the notice. Overall, comments supported VA's plan to assess the scientific literature and historical claims data to determine whether there is an association between PFAS and kidney cancer.

Thirty-six comments were positive and/or in agreement with VA's planned scientific assessment, while the remaining six were neutral. No comments disagreed with the planned scientific assessment. Seventeen comments provided veteran testimony, exposure experience, or personal medical history. Thirteen comments voiced concern that kidney cancer is a narrow scope of possible conditions associated with PFAS exposure. Ten comments were requests to establish kidney cancer as a presumptive service-connected condition due to possible PFAS exposure. The remaining two comments requested benefits consideration. Twenty-two comments spoke to exposures at a specific location or in an occupation; of those, nine comments discussed firefighting foam/gear as the chief exposure concern. Eight comments discussed medical conditions other than kidney cancer. Three comments dealt with exposures other than PFAS. Of the remaining nine comments, six dealt with personal medical histories, two provided scientific evidence, and one was unclear.

Discussion on Comments

With the enactment of Sergeant First Class Heath Robinson Honoring our Promise to Address Comprehensive Toxics Act of 2022 (PACT Act), VA enhanced the presumptive decision-making process to align with 38 U.S.C. 1171-1176 and implement recommendations from National Academies of Science, Engineering, and Medicine's (NASEM) review of the process. Under the current enhanced process, every year VA announces in the Federal Register plans for formal evaluations. VA also invites comments and holds an open meeting for the public to provide input.

In accordance with this process, VA established a working group called the Military Environmental Exposure Sub-Council to conduct ongoing surveillance and scientific assessments that may lead to a recommendation for formal evaluation. The duration of a scientific assessment is dependent on the availability, volume, and complexity of relevant literature and data. VA is required to complete formal evaluations within 120 days in accordance with the requirements in 38 U.S.C. 1173.

At this time, VA will focus solely on the possibility of a relationship between PFAS exposure and kidney cancer for the current scientific assessment. Other conditions that are possibly associated with PFAS exposure may be considered for future assessments. The scientific assessment committee will be provided the details from the comments that include veteran testimonies and exposure experiences. If the assessment results in a formal evaluation, the veteran testimonies and exposure experiences will also be provided to the formal evaluation team for consideration.

VA agrees that the NASEM report “Guidance on PFAS Exposure, Testing, and Clinical Follow-up” (2022) is an important resource, and it will be one of several resources VA uses to inform its scientific assessment. However, under the PACT Act and 38 U.S.C. 1172, VA follows a specific process to support any decisions regarding creating new presumptions of service-connection. This process generally includes a scientific assessment, which requires convening an interagency expert panel and reviewing relevant peer-reviewed scientific literature and historical claims data across multiple evidence streams. The panel will make recommendations to VA leadership regarding whether the evidence supports conducting a formal evaluation. The panel will not make any recommendations regarding future studies, as that is outside of the scope of the scientific assessment.

This current assessment will focus on kidney cancer because it is the disability identified in the NASEM report as having the strongest evidence linking it to PFAS exposure. The other outcomes categorized as having “sufficient evidence of an association” were either clinical indicators (not disabilities) or were conditions that occur in children. VA only has the authority to create presumptions for disabilities in veterans; policies related to care/compensation for children would require Congressional mandate and appropriations. Other disabilities, such as those included in other categories identified by NASEM, may be assessed in future assessments as additional data becomes available. VA remains committed to transparency, scientific integrity, and supporting the health of all veterans affected by PFAS and other military environmental exposures.

VA agrees that it is important to ensure that the scientific assessment includes PFAS compounds and exposure routes specific to military settings, such as those involving fire-fighting foams or aqueous film-forming foam used to extinguish jet fuel in military and commercial settings. The assessment will examine all peer-reviewed studies involving relevant PFAS compounds, including those with known military applications. The Department of War is still in the process of identifying all of its uses of PFAS; therefore, not all potential exposure routes related to military service are known. To ensure that the assessment allows for as broad of a review on the potential relationship between PFAS and kidney cancer as possible, any published data on this relationship in any population will be considered.

Regarding potential exposures at Fort McClellan, Alabama, section 801 of the PACT Act required a Congressionally mandated epidemiological study to conduct analyses of morbidity and mortality vis-à-vis veterans who served at this location between January 1, 1935, and May 20, 1999. VA is currently conducting this research and will disseminate the results upon completion.

VA does not currently offer PFAS blood testing. This is because PFAS blood tests have limited clinical value in that they can detect levels of certain PFAS in an individual's body at one point in time, but they cannot be used to determine when an individual was exposed, the source of exposure, or whether it could affect an individual's health now or in the future. These tests also do not guide treatment decisions. Veterans who are still interested in testing may choose to do so through private laboratories outside the VA health care system. If an individual has concerns about PFAS exposure, they can speak with their primary care provider, who can review the individual's health history and determine if additional evaluations are needed.

VA does not plan to create a PFAS registry, since self-reported registries have limited scientific value. Instead, VA is conducting epidemiologic studies to try to improve our understanding of the impact of PFAS exposures in military populations. Further, under the PACT Act, VA is conducting a review of the current evidence linking PFAS exposure to kidney cancer as the first step in the presumptive decision process. Additional conditions may be considered in future phases of review. The findings of this and all presumptive decision process reviews will be shared in the Federal Register.

VA cannot comment on veteran medical histories or claims shared through the public comment process. VA encourages all veterans who feel their military service has negatively impacted their health to submit a claim for disability compensation. VA will review the claims on a case-by-case basis. Veterans who have evidence of an in-service toxic exposure and developed a non-presumptive disability related to that exposure may be entitled to receive compensation benefits under the direct service connection provisions if a medical opinion provides a causal link between the two. VA is unable to grant benefits if a link between the veteran's medical conditions and military service is not found. When determining eligibility for benefits, VA considers all avenues of service connection, which includes direct service connection, secondary service connection, and presumptive service connection. Service connection is not limited to potential exposures and may be warranted for chronic conditions manifesting to a compensable degree within the recognized time. If a claimant disagrees with a claim decision, they can choose from the following decision review options: Supplemental Claim, Higher-Level Review, or Board Appeal, to continue their case. Visit www.va.gov or call (800) MYVA411 to learn about the options available.

Moving Forward

VA will provide status updates on the scientific assessment at the PACT Act Quarterly Briefing for VSOs and stakeholders. Additionally, VA will publish the annual notice for fiscal year (FY) 2025 as required by 38 U.S.C. 1172. The FY 2025 notice will announce plans and details for the annual listening session. The quarterly briefings, annual notice, and listening session will provide the opportunity for veterans, family members, VSOs, stakeholders, and the public to provide their input.

Signing Authority

Douglas A. Collins, Secretary of Veterans Affairs, approved this document on December 15, 2025 and authorized the undersigned to sign and submit the document to the Office of the Federal Register for publication electronically as an official document of the Department of Veterans Affairs.

Nicole R. Cherry,
Alternate Federal Register Liaison Officer, Department of Veterans Affairs.

[FR Doc. 2025-23311 Filed 12-17-25; 8:45 am]

BILLING CODE 8320-01-P